DEPARTMENT OF COMMERCE

Foreign-Trade Zones Board

[Order No. 2053]

Approval of Expansion of Subzone 49C; E.R. Squibb and Sons, LLC; New Brunswick, New Jersey

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, the Port Authority of New York and New Jersey, grantee of Foreign-Trade Zone 49, has made application to the Board for the expansion of Subzone 49C at the facility of E.R. Squibb and Sons, LLC, located in New Brunswick, New Jersey (FTZ Docket B-02-2018, docketed January 3, 2018);

Whereas, notice inviting public comment has been given in the Federal Register (83 FR 1608, January 12, 2018), and the application has been processed pursuant to the FTZ Act and the Board's regulations; and,

Whereas, the Board adopts the findings and recommendations of the examiner's memorandum, and finds that the requirements of the FTZ Act and the Board's regulations are satisfied;

Now, therefore, the Board hereby approves the expansion of Subzone 49C at the facility of E.R. Squibb and Sons, LLC, located in New Brunswick, New Jersey, as described in the application and Federal Register notice, subject to the FTZ Act and the Board's regulations, including Section 400.13.

Dated: May 9, 2018.
Gary Taverman,
Deputy Assistant Secretary for Antidumping and Countervailing Duty Operations, performing the non-exclusive functions and duties of the Assistant Secretary for Enforcement and Compliance, Alternate Chairman, Foreign-Trade Zones Board.

[FR Doc. 2018-10323 Filed 5-14-18; 8:45 am]

BILLING CODE 3510-DS-P